DEPARTMENT OF COMMERCE

International Trade Administration

[A-351-837, A-533-828, C-533-829, A-588-068, A-580-852, A-201-831, A-549-820]

Continuation of Antidumping and Countervailing Duty Finding and Orders: Prestressed Concrete Steel Wire Strand from Brazil, India, Japan, the Republic of Korea, Mexico, and Thailand

AGENCY: Import Administration, International Trade Administration, Department of Commerce.

SUMMARY: As a result of the determinations by the Department of Commerce (the “Department”) and the International Trade Commission (the “ITC”) that revocation of the antidumping duty (“AD”) finding/orders on prestressed concrete steel wire strand (“PC strand”) from Brazil, India, Japan, the Republic of Korea (“Korea”), Mexico, and Thailand would likely lead to continuation or recurrence of dumping, that revocation of the countervailing duty (“CVD”) order on PC strand from India would likely lead to continuation or recurrence of a countervailable subsidy, and that revocation of these AD and CVD finding/orders would likely lead to a continuation or recurrence of material injury to an industry in the United States, the Department is publishing this notice of the continuation of these AD finding/orders and CVD order.

EFFECTIVE DATE: December 11, 2009.

FOR FURTHER INFORMATION CONTACT: Minoo Hatten (AD finding/orders) or Eric Greynolds (CVD order), AD/CVD Operations, Import Administration, International Trade Administration, U.S. Department of Commerce, 14th Street & Constitution Avenue NW, Washington, DC 20230; telephone: (202) 482-1690 and (202) 482-6071, respectively.

SUPPLEMENTARY INFORMATION:

Background

On December 1, 2008, the Department initiated and the ITC instituted sunset reviews of the AD and CVD finding/orders on PC strand from Brazil, India, Japan, Korea, Mexico, and Thailand, pursuant to sections 751(c) and 752 of the Tariff Act of 1930, as amended (the “Act”), respectively. See Initiation of Five-Year (“Sunset”) Reviews, 73 FR 72770 (December 1, 2008). As a result of its reviews, the Department found that revocation of the AD finding/orders would likely lead to continuation or recurrence of dumping and that revocation of the CVD order would likely lead to continuation or recurrence of subsidization, and notified the ITC of the margins of dumping and the subsidy rates likely to prevail were the finding/orders revoked. See Prestressed Concrete Steel Wire Strand from Brazil, India, Japan, the Republic of Korea, Mexico, and Thailand: Final Results of the Expedited Sunset Reviews of the Antidumping Duty Finding/Orders, 74 FR 13179 (March 26, 2009), and Final Results of Expedited Sunset Review of Countervailing Duty Order: Prestressed Concrete Steel Wire Strand from India, 74 FR 15938 (April 8, 2009) (collectively, “Final Results”).

On December 1, 2009, the ITC determined that revocation of the AD and CVD finding/orders on PC strand from Brazil, India, Japan, Korea, Mexico, and Thailand would likely lead to continuation or recurrence of material injury within a reasonably foreseeable time. See Prestressed Concrete Steel Wire Strand from Brazil, India, Japan, Korea, Mexico, and Thailand, 74 FR 62820 (December 1, 2009) (“ITC Determination”) and USITC Publication 4114 (November 2009), entitled Prestressed Concrete Steel Wire Strand from Brazil, India, Japan, Korea, Mexico, and Thailand (Inv. Nos. 701-TA-432 and 731-TA-1024-1028 (Review) and AA1921-188 (Third Review)).

Scope of the Finding/Orders

The merchandise subject to the AD and CVD orders on PC strand from Brazil, India, Korea, Mexico, and Thailand is steel strand produced from wire of non-stainless, non-galvanized steel, which is suitable for use in prestressed concrete (both pre-tensioned and post-tensioned) applications. The product definition encompasses covered and uncovered strand and all types, grades, and diameters of PC strand.

The merchandise subject to the AD finding on PC strand from Japan is steel wire strand, other than alloy steel, not galvanized, which is stress-relieved and suitable for use in prestressed concrete.

The merchandise subject to the finding/orders is currently classifiable under subheadings 7312.10.3010 and 7312.10.3012 of the Harmonized Tariff Schedule of the United States (HTSUS). Although the HTSUS subheadings are provided for convenience and customs purposes, the written description of the merchandise under the finding/orders is dispositive.

Determination

As a result of the determinations by the Department and the ITC that revocation of these AD and CVD finding/orders would likely lead to continuation or recurrence of dumping or a countervailable subsidy, and of material injury to an industry in the United States, pursuant to section 751(d)(2) of the Act, the Department hereby orders the continuation of the AD and CVD finding/orders on PC strand from Brazil, India, Japan, Korea, Mexico, and Thailand. U.S. Customs and Border Protection will continue to collect cash deposits at the rates in effect at the time of entry for all imports of subject merchandise. The effective date of the continuation of these finding/orders is the date of publication in the Federal Register of this Notice of Continuation.

Pursuant to sections 751(c)(2) and 751(c)(6) of the Act, the Department intends to initiate the next five-year review of these finding/orders not later than November 2014.

These five-year (sunset) reviews and notice are in accordance with section 751(c) of the Act and published pursuant to section 777(i)(1) of the Act.

Dated: December 7, 2009.
Carole A. Showers,
Acting Deputy Assistant Secretary for Policy and Negotiations.

[FR Doc. E9-29587 Filed 12-10-09; 8:45 am]

BILLING CODE 3510-DS-S